DEPARTMENT OF COMMERCE

National Oceanic and Atmospheric Administration

50 CFR Part 648

[Docket No. 071004577-8124-02]

RIN 0648-XN46

Magnuson-Stevens Fishery Conservation and Management Act Provisions; Fisheries of the Northeastern United States; Northeast Multispecies Fishery; Reduction of the Landing Limit for Eastern Georges Bank Cod in the U.S./Canada Management Area

AGENCY: National Marine Fisheries Service (NMFS), National Oceanic and Atmospheric Administration (NOAA), Commerce.

ACTION: Temporary rule; reduction of landing limit.

SUMMARY: This action decreases the landing limit of Eastern Georges Bank (GB) cod to 500 lb (226.8 kg) per day-at-sea (DAS), or any part of a DAS, up to 5,000 lb (2,267.9 kg) per trip for NE multispecies DAS vessels fishing in the U.S./Canada Management Area. This action is authorized by the regulations implementing Amendment 13 to the NE Multispecies Fishery Management Plan and is intended to increase the likelihood of harvesting the total allowable catch (TAC) for Eastern GB cod without exceeding it during the 2008 fishing year. This action is being taken to allow vessels to fully harvest the TACs for transboundary stocks of GB cod, haddock, and yellowtail flounder under the authority of the Magnuson-Stevens Fishery Conservation and Management Act (Magnuson-Stevens Act).

DATES: Effective March 9, 2009, through April 30, 2009.

FOR FURTHER INFORMATION CONTACT: Douglas Potts, Fishery Policy Analyst, (978) 281-9341, fax (978) 281-9135.

SUPPLEMENTARY INFORMATION: Regulations governing the GB cod landing limit within the Eastern U.S./Canada Area are found at § 648.85(a)(3)(iv)(A) and (D). The regulations authorize vessels issued a valid limited access NE multispecies permit and fishing under a NE multispecies DAS to fish in the U.S./Canada Management Area, as defined at § 648.85(a)(1), under specific conditions. The TAC for Eastern GB cod for the 2008 fishing year (May 1, 2008 -April 30, 2009) was set at 667 mt (73 FR 16572, March 28, 2008), a 35-percent increase from the TAC for the 2007 fishing year.

The regulations at § 648.85(a)(3)(iv)(D) authorize the Administrator, Northeast (NE) Region, NMFS (Regional Administrator), to increase or decrease the trip limits in the U.S./Canada Management Area to prevent over-harvesting or under-harvesting the TAC allocation. The default landing limit of Eastern GB cod for NE multispecies DAS vessels fishing in the Eastern U.S./Canada Area is 500 lb (226.8 kg) per DAS, or any part of a DAS, up to 5,000 lb (2,268 kg) per trip. NMFS published a temporary rule on December 23, 2008 (73 FR 78659), increasing the landing limit for Eastern GB cod to 1,000 lb (453.6 kg) per DAS, or any part of a DAS, up to 10,000 lb (4,535.9 kg) per trip.

According to the most recent Vessel Monitoring System (VMS) reports and other available information, the cumulative Eastern GB cod catch, is approximately 53.8 percent of the TAC, as of February 12, 2009, and is expected to achieve the TAC by early April; prior to conclusion of the 2008 fishing year. If the TAC were reached it would require that the Eastern U.S./Canada Area be closed for the remainder of the 2008 fishing year, preventing the harvest of the remaining portion of the Eastern GB haddock TAC and preventing harvest of GB yellowtail flounder in the Eastern U.S./Canada Area. Based on this information, the Regional Administrator is decreasing the current Eastern GB cod landing limit of 1,000 lb (453.6 kg) per DAS, or any part of a DAS, up to 10,000 lb (4,535.9 kg) per trip in the Eastern U.S./Canada Area; to 500 lb (226.8 kg) per DAS, or any part of a DAS, up to 5,000 lb (2,268 kg) per trip, effective 0001 hours local time March 9, 2009, through April 30, 2009.

Eastern GB cod landings will continue to be closely monitored. Further inseason adjustments to increase or decrease the trip limit may be considered, based on updated catch data and projections. Should 100 percent of the TAC allocation for Eastern GB cod be projected to be harvested, the Eastern U.S./Canada Area would be closed to limited access NE multispecies DAS vessels for the remainder of the fishing year.

Classification

This action is authorized by 50 CFR part 648 and is exempt from review under Executive Order 12866.

Pursuant to 5 U.S.C. 553(b)(3)(B) and (d)(3), the Assistant Administrator finds good cause to waive prior notice and opportunity for public comment, as well as the delayed effectiveness for this action, because prior notice and comment and a delayed effectiveness would be impracticable and contrary to the public interest. The regulations under § 658.85(a)(3)(iv)(D) grant the Regional Administrator the authority to adjust the Eastern GB cod trip limit to prevent over-harvesting or under-harvesting the TAC allocation. This action would reduce the Eastern GB cod limit for all NE multispecies DAS vessels fishing in the U.S./Canada Management Area for the remainder of the 2008 fishing year. This action is intended to prevent the over-harvest of the Eastern GB cod TAC while allowing continued opportunities to achieve optimum yield in the NE multispecies fishery.

It is important to take this action immediately to slow the rate of Eastern GB cod harvest. Any further delay of this action is likely to result in a precipitous harvest of the Eastern GB cod TAC which may require that the Eastern U.S./Canada Area be closed for the remainder of the 2008 fishing year, preventing the harvest of the remaining portion of the Eastern GB haddock TAC, and preventing harvest of GB yellowtail flounder in the Eastern U.S./Canada Management Area, thereby reducing the ability of fishers to maximize their fishing opportunities. Exceeding the 2008 TAC for Eastern GB cod would increase mortality of this overfished stock beyond that evaluated during the development of Amendment 13, resulting in decreased revenue for the NE multispecies fishery, increased negative economic impacts to vessels operating in the Eastern U.S./Canada Management Area, a reduced chance of achieving optimum yield in the groundfish fishery, and unnecessary delays to the rebuilding of this overfished stock. Exceeding the 2008 Eastern GB cod TAC would also necessitate that any overages during the 2008 fishing year be deducted from the Eastern GB cod TAC for the 2009 fishing year. Reducing the 2009 TAC due to any 2008 TAC overage as a result of delaying this action would create an unnecessary burden on the fishing industry and further negative economic and social impacts that were not previously considered.

The Regional Administrator's authority to decrease the trip limit for Eastern GB cod in the U.S./Canada Management Area to ensure the shared U.S./Canada stocks of fish are harvested, but not exceeded, was publicly considered and open to public comment during the development of Amendment 13. Further, the potential of decreasing the Eastern GB cod trip limit was announced to the public when the current trip limit was implemented on December 23, 2008. The public is able to obtain information on the rate of harvest of the Eastern GB cod TAC via the NMFS Northeast Regional Office website (http://www.nero.noaa.gov), which provides at least some advanced notice of a potential action to prevent the TAC for Eastern GB cod from being exceeded during the 2008 fishing year. Therefore, any negative effect the waiving of public comment and delayed effectiveness may have on the public is mitigated by these factors.

Authority: 16 U.S.C. 1801 et seq.

Dated: March 4, 2009
Emily H. Menashes,
Acting Director, Office of Sustainable Fisheries, National Marine Fisheries Service.

[FR Doc. E9-4893 Filed 3-4-09; 4:15 pm]

BILLING CODE 3510-22-S